POSTAL SERVICE

39 CFR Part 111

Price of Semipostal Stamp

AGENCY: Postal Service.

ACTION: Final rule; correction.

SUMMARY: The effective date for the pricing and issuance of Stop Family Violence Semipostal Stamp published in the Federal Register on August 18, 2003 (Vol. 68, No. 159, pages 49362-49363) is changed from October 11, 2003 to October 8, 2003.

DATES: This notice is effective October 29, 2003.

SUPPLEMENTARY INFORMATION: On October 8, 2003, President George Bush announced the nationwide sale of the Stop Family Violence Semipostal Stamp at a White House ceremony recognizing October as Domestic Violence Awareness Month.

Stanley F. Mires,
Chief Counsel, Legislative.

[FR Doc. 03-27185 Filed 10-28-03; 8:45 am]

BILLING CODE 7710-12-P